DEPARTMENT OF STATE

[Delegation of Authority No. 280]

Delegation by the Secretary of State to the Under Secretary for Political Affairs of Authorities Regarding Congressional Reporting Functions

By virtue of the authority vested in me as Secretary of State by the laws of the United States, including Section 1 of the State Department Basic Authorities Act of 1956, as amended (22 U.S.C. 2651a), I hereby assign to the Under Secretary of State for Political Affairs, to the extent authorized by law, the function of approving submission of reports to the Congress.

This delegation covers the decision to submit to the Congress both one-time reports and recurring reports, including but not limited to those recurring reports identified in Section 1 of Executive Order 13313 (Delegation of Certain Congressional Reporting Functions) of July 31, 2003. However, this delegation shall not be construed to authorize the Under Secretary to make waivers, certifications, determinations, findings, or other such statutorily required substantive actions that may be called for in connection with the submission of a report. The Under Secretary shall be responsible for referring to the Secretary or the Deputy Secretary any matter on which action would appropriately be taken by such official.

Any authority covered by this delegation may also be exercised by the Deputy Secretary of State, to the extent authorized by law, or by the Secretary of State.

This delegation incorporates and supersedes prior delegations in this calendar year to the Under Secretary by me or the Deputy Secretary with respect to specific reports to Congress. This delegation does not repeal delegations to other Department officials.

This delegation of authority shall be published in the Federal Register.

Dated: May 2, 2005.
Condoleezza Rice,
Secretary of State, Department of State.

[FR Doc. 05-10452 Filed 5-24-05; 8:45 am]

BILLING CODE 4710-10-P